DEPARTMENT OF ENERGY

Federal Energy Regulatory Commission

Combined Notice of Filings

Take notice that the Commission has received the following Natural Gas Pipeline Rate and Refund Report filings:

Filings Instituting Proceedings

Docket Numbers: RP16-930-000.

Applicants: Enable Mississippi River Transmission, L.

Description: Section 4(d) Rate Filing: Negotiated Rate Filing to Amend LER 5680's Attachment A_5_5_16 to be effective 5/5/2016.

Filed Date: 5/5/16.

Accession Number: 20160505-5154.

Comments Due: 5 p.m. ET 5/17/16.

Docket Numbers: RP16-931-000.

Applicants: Gulf South Pipeline Company, LP.

Description: Section 4(d) Rate Filing: Housekeeping Matters to be effective 6/6/2016.

Filed Date: 5/6/16.

Accession Number: 20160506-5042.

Comments Due: 5 p.m. ET 5/18/16.

Docket Numbers: RP16-932-000.

Applicants: Ozark Gas Transmission, L.L.C.

Description: Section 4(d) Rate Filing: OGT May 2016 Cleanup Filing to be effective 6/6/2016.

Filed Date: 5/6/16.

Accession Number: 20160506-5057.

Comments Due: 5 p.m. ET 5/18/16.

Docket Numbers: RP16-933-000.

Applicants: Dominion Cove Point LNG, LP.

Description: Section 4(d) Rate Filing: DCP—May 6, 2016 Administrative Changes to be effective 6/6/2016.

Filed Date: 5/6/16.

Accession Number: 20160506-5163.

Comments Due: 5 p.m. ET 5/18/16.

Docket Numbers: RP16-934-000.

Applicants: Dominion Transmission, Inc.

Description: Section 4(d) Rate Filing: DTI—May 6, 2016 Administrative Changes to be effective 6/6/2016.

Filed Date: 5/6/16.

Accession Number: 20160506-5170.

Comments Due: 5 p.m. ET 5/18/16.

Docket Numbers: RP16-935-000.

Applicants: Dominion Transmission, Inc.

Description: Section 4(d) Rate Filing: DTI—May 6, 2016 Negotiated Rate Agreements to be effective 6/1/2016.

Filed Date: 5/6/16.

Accession Number: 20160506-5173.

Comments Due: 5 p.m. ET 5/18/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-929-001.

Applicants: Maritimes & Northeast Pipeline, L.L.C.

Description: Tariff Amendment: Amendment to RP16-929-000 Filing to be effective 6/5/2016.

Filed Date: 5/6/16.

Accession Number: 20160506-5149.

Comments Due: 5 p.m. ET 5/18/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 9, 2016.
Nathaniel J. Davis, Sr.,
Deputy Secretary.

[FR Doc. 2016-11521 Filed 5-13-16; 8:45 am]

BILLING CODE 6717-01-P